DEPARTMENT OF COMMERCE

Foreign-Trade Zones Board

[T-3-2007]

Foreign-Trade Zone 7—Mayaguez, PR; Temporary/Interim Manufacturing Authority Merck Sharpe & Dohme Quimica De Puerto Rico Inc. (Pharmaceutical Manufacturing); Notice of Approval

On May 10, 2007, the Executive Secretary of the Foreign-Trade Zones (FTZ) Board filed an application submitted by the Puerto Rico Industrial Development Company, grantee of FTZ 7, requesting temporary/interim manufacturing (T/IM) authority on behalf of Merck Sharpe & Dohme Quimica De Puerto Rico, Inc., within FTZ 7, at the MOVA Pharmaceutical Corporation pharmaceutical manufacturing facility located in Caguas, Puerto Rico.

The application was processed in accordance with T/IM procedures, as authorized by FTZ Board Orders 1347 (69 FR 52587, 8/30/04) and 1480 (71 FR 55422, 9/22/06), including notice in the Federal Register inviting public comment (72 FR 27801, 5/17/07). The FTZ staff examiner reviewed the application and determined that it meets the criteria for approval under T/IM procedures. Pursuant to the authority delegated to the FTZ Board Executive Secretary in Board Orders 1347 and 1480 the application was approved, effective July 23, 2007, until July 23, 2009, subject to the FTZ Act and the Board's regulations, including Section 400.28.

Dated: July 23, 2007.
Andrew McGilvray,
Executive Secretary.

[FR Doc. E7-15030 Filed 8-1-07; 8:45 am]

BILLING CODE 3510-DS-P